DEPARTMENT OF TRANSPORTATION

Federal Aviation Administration

First Meeting, Special Committee 213 Enhanced Flight Vision Systems/Synthetic Vision System, (EFVS/SVS)

AGENCY: Federal Aviation Administration (FAA), DOT.

ACTION: Notice of RTCA Special Committee 213, Enhanced Flight Vision Systems/Synthetic Vision System, (EFVS/SVS).

SUMMARY: The FAA is issuing this notice to advise the public of a first meeting of RTCA Special Committee 213, Enhanced Flight Vision Systems/Synthetic Vision System, (EFVS/SVS).

DATES: The meeting will be held February 27-28, 2007 from 9 a.m.-5 p.m.

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org for directions.

SUPPLEMENTARY INFORMATION: Pursuant to section 10(a)(2) of the Federal Advisory Committee Act (Pub. L. 92-463, 5 U.S.C., Appendix 2), notice is hereby given for a Special Committee 213 meeting. The agenda will include:

• February 27-28:

• Opening Plenary Session (Welcome, Introductions, and Administrative Remarks, Agenda Overview).

• Federal Advisory Committee Act, RTCA Overview.

• Select Secretary.

• Review of Terms of Reference.

• FAA Progress to date.

• EFVS/SVS Manufacture briefings (20 minutes per briefing): Potential applications, proposed operational credit.

• Discussion on planned tasks.

• Initial organization of work.

• Initial task assignment for next meeting.

• Closed Plenary Session (Other Business, Establish Agenda, Date and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 1, 2007.
Francisco Estrada C.,
RTCA Advisory Committee.

[FR Doc. 07-506 Filed 2-5-07; 8:45 am]

BILLING CODE 4910-13-M